DEPARTMENT OF COMMERCE

National Oceanic and Atmospheric Administration

[RTID 0648-XW008]

Endangered and Threatened Species; Initiation of 5-Year Reviews for 28 Listed Species of Pacific Salmon and Steelhead

AGENCY: National Marine Fisheries Service (NMFS), National Oceanic and Atmospheric Administration (NOAA), Commerce.

ACTION: Notice of initiation of 5-year reviews; request for information.

SUMMARY: We, NMFS, are announcing 5-year reviews of 28 species listed under the Endangered Species Act of 1973, as amended (ESA). The listed species comprise 17 evolutionarily significant units (ESUs) of Pacific salmon (Oncorhynchus spp.) and 11 distinct population segments (DPSs) of steelhead (Oncorhynchus mykiss). The purpose of these reviews is to ensure the accuracy of their listing classifications. The 5-year reviews will be based on the best scientific and commercial data available at the time of the reviews; therefore, we are requesting that interested parties submit new relevant information on these ESUs and DPSs that has become available since the last species status reviews in 2016. Based on the results of these 5-year reviews, we will make the requisite determinations under the ESA.

DATES: To allow us adequate time to conduct these reviews, we must receive the new relevant information by close of business on March 27, 2020.

ADDRESSES: You may submit information on this document, identified by NOAA-NMFS-2019-0097, by any of the following methods:

• Electronic Submissions: Submit all electronic public comments via the Federal e-Rulemaking Portal www.regulations.gov. To submit comments via the e-Rulemaking Portal, first click the “submit a comment” icon, then enter NOAA-NMFS-2019-0097 in the keyword search. Locate the document you wish to comment on from the resulting list and click on the “Submit a Comment” icon to the right of that line.

• Mail or Hand-delivery: Address comments to Robert Markle, NMFS, West Coast Region, 1201 NE Lloyd Blvd., Suite 1100, Portland, OR 97232.

Instructions: Comments must be submitted by one of the above methods to ensure that we can receive, document, and consider them. Comments sent by any other method, sent to any other address or individual, or received after the end of the comment period may not be considered. All comments received are a part of the public record and will generally be posted for public viewing on www.regulations.gov without change. All personal identifying information (e.g., name, address, etc.) submitted voluntarily by the sender will be publicly accessible. Do not submit confidential business information, or otherwise sensitive or protected information. We request that all information be accompanied by: (1) Supporting documentation such as maps, bibliographic references, or reprints of pertinent publications; and (2) the submitter's name, address, and any association, institution, or business that the person represents. NMFS will accept anonymous comments (enter “N/A” in the required fields if you wish to remain anonymous).

Please note that submissions without supporting information—those merely stating support for or opposition to the action under consideration—will be noted but not used in making any listing determinations, as such comments do not represent actual scientific or commercial data.

FOR FURTHER INFORMATION CONTACT: Robert Markle at the above address, by phone at (503) 230-5419, or by email at robert.markle@noaa.gov.

SUPPLEMENTARY INFORMATION: Section 4(c)(2)(A) of the ESA requires that we conduct a review of listed species at least once every five years. On the basis of such reviews, we determine under section 4(c)(2)(B) whether a species should be delisted, or reclassified from endangered to threatened or from threatened to endangered.

We will undertake reviews for the following 17 Pacific salmon ESUs: (1) Sacramento River winter-run Chinook salmon; (2) Upper Columbia River spring-run Chinook salmon; (3) Snake River spring/summer-run Chinook salmon; (4) Central Valley spring-run Chinook salmon; (5) California Coastal Chinook salmon; (6) Puget Sound Chinook salmon; (7) Lower Columbia River Chinook salmon; (8) Upper Willamette River Chinook salmon; (9) Snake River fall-run Chinook salmon; (10) Hood Canal summer-run chum salmon; (11) Columbia River chum salmon; (12) Central California Coast coho salmon; (13) Southern Oregon/Northern California Coast coho salmon; (14) Lower Columbia River coho salmon; (15) Oregon Coast coho salmon; (16) Snake River sockeye salmon; and (17) Ozette Lake sockeye salmon. We will also undertake reviews for the following 11 steelhead DPSs: (1) Southern California steelhead; (2) Upper Columbia River steelhead; (3) Middle Columbia River steelhead; (4) Snake River Basin steelhead; (5) Lower Columbia River steelhead; (6) Upper Willamette steelhead; (7) South-Central California Coast steelhead; (8) Central California Coast steelhead; (9) Northern California steelhead; (10) California Central Valley steelhead; and (11) Puget Sound steelhead. Information about these 17 ESUs and 11 DPSs can be found on our West Coast regional website: http://www.westcoast.fisheries.noaa.gov.

Our regulations for periodic reviews (50 CFR 424.21) require that we publish a notice in the Federal Register announcing those species currently under active review. This notice announces our active reviews of the ESUs and DPSs listed above. Any change in listing classification would require a separate rulemaking process.

Determining if a Species is Threatened or Endangered

Section 4(a)(1) of the ESA requires that we determine whether a species is endangered or threatened based on one or more of the five following factors: (1) The present or threatened destruction, modification, or curtailment of its habitat or range; (2) overutilization for commercial, recreational, scientific, or educational purposes; (3) disease or predation; (4) the inadequacy of existing regulatory mechanisms; or (5) other natural or manmade factors affecting its continued existence. Section 4(b) also requires that our determination be made on the basis of the best scientific and commercial data available after taking into account those efforts, if any, being made to protect such species.

Application of the ESU and DPS Policies

NMFS is responsible for determining whether species, subspecies, or DPSs of marine and anadromous species are threatened or endangered under the ESA. For Pacific salmon, we use our Policy on Applying the Definition of Species under the ESA to Pacific Salmon (ESU Policy) (November 20, 1991; 56 FR 58612) in determining the appropriate taxonomic unit for listing considerations. Under this policy, populations of salmon that are substantially reproductively isolated from other conspecific populations and that represent an important component in the evolutionary legacy of the biological species are considered to be an ESU. In our listing determinations for Pacific salmon under the ESA, we have determined that an ESU constitutes a DPS and may therefore be considered a “species,” under the ESA.

For non-salmon species, including steelhead, NMFS applies the joint U.S. Fish and Wildlife Service-NMFS DPS policy (February 7, 1996; 61 FR 4722) in identifying the appropriate taxonomic unit for listing consideration. Under this policy, a DPS must be discrete from other conspecific populations, and it must be significant to its taxon. A group of organisms is discrete if it is “markedly separated from other populations of the same taxon as a consequence of physical, physiological, ecological, and behavioral factors.” Under the DPS Policy, if a population group is determined to be discrete, the agency must then consider whether it is significant to the taxon to which it belongs.

Considerations in evaluating the significance of a discrete population include: (1) Persistence of the discrete population in an unusual or unique ecological setting for the taxon; (2) evidence that the loss of the discrete population segment would cause a significant gap in the taxon's range; (3) evidence that the discrete population segment represents the only surviving natural occurrence of a taxon that may be more abundant elsewhere outside its historical geographic range; or (4) evidence that the discrete population has marked genetic differences from other populations of the species.

On June 28, 2005, we announced a final policy addressing the role of artificially propagated (hatchery-produced) Pacific salmon and steelhead in listing determinations under the ESA (70 FR 37204). Specifically, this policy (1) establishes criteria for including hatchery stocks in ESUs and DPSs; (2) provides direction for considering hatchery fish in extinction risk assessments of ESUs and DPSs; (3) requires that hatchery fish determined to be part of an ESU or DPS will be included in any listing decision; (4) affirms NMFS' commitment to conserving natural salmon and steelhead populations and the ecosystems upon which they depend; and (5) affirms NMFS' commitment to fulfilling trust and treaty obligations with regard to the harvest of some Pacific salmon and steelhead populations, consistent with the conservation and recovery of listed salmon and steelhead ESUs and DPSs.

Public Solicitation of New Relevant Information

The 5-year reviews will consider the best scientific and commercial data available, particularly new information that has become available since the species' previous status reviews. Our Northwest and Southwest Fisheries Science Centers will assist the West Coast Region in gathering and analyzing this information. To ensure that the 5-year reviews are complete and based on the best available information, we are soliciting new information from the public, concerned governmental agencies, Native American tribes, the scientific community, industry, environmental entities, and any other parties interested in the status of the ESUs and DPSs listed above.

Specifically, we are seeking new information (generated since 2015) on: (1) Population abundance; (2) population productivity; (3) changes in species distribution or spatial structure; (4) genetics or other indicators of diversity; (5) changes in habitat conditions and associated limiting factors and threats; (6) conservation measures that have been implemented that benefit the species—including data that demonstrate the effectiveness of such measures in addressing identified limiting factors or threats; (7) data concerning the status and trends of identified limiting factors or threats; (8) information that may affect determinations regarding the composition of an ESU or DPS; (9) information on hatchery program changes that may affect determinations regarding a program's ESU or DPS membership; (10) information on targeted harvest (commercial, tribal, and recreational) and bycatch of the species; and (11) any other new information, data, or corrections including, but not limited to, taxonomic or nomenclatural changes, identification of any erroneous information in the previous listing determinations, and improved analytical methods for evaluating extinction risk. Previous status reviews and supporting information are available on the internet at: https://www.westcoast.fisheries.noaa.gov/publications/status_reviews/salmon_steelhead/2016_status_review.html.

If you wish to provide information for these 5-year reviews, see ADDRESSES for instructions.

Authority: 16 U.S.C. 1531 et seq.

Dated: October 1, 2019.
Donna S. Wieting,
Director, Office of Protected Resources, National Marine Fisheries Service.

[FR Doc. 2019-21666 Filed 10-3-19; 8:45 am]

BILLING CODE 3510-22-P